DEPARTMENT OF COMMERCE

National Oceanic and Atmospheric Administration

50 CFR Part 635

[Docket No. 251121-0173]

RIN 0648-BM88

Atlantic Highly Migratory Species; Revisions to Commercial Atlantic Blacknose and Recreational Atlantic Shark Fisheries Management Measures

AGENCY: National Marine Fisheries Service (NMFS), National Oceanic and Atmospheric Administration (NOAA), Commerce.

ACTION: Proposed rule; request for comments.

SUMMARY: NMFS is proposing several changes for commercial and recreational Atlantic shark fisheries. Specifically, NMFS is considering options to remove the blacknose shark management boundary in the Atlantic region, modify the commercial retention limit for blacknose sharks in the Atlantic region, revise the recreational minimum size limits for Atlantic shark species, and revise the recreational retention limits for Atlantic shark species. In this action, NMFS would also remove commercial management group quota linkages, consistent with Amendment 14 to the 2006 Consolidated Atlantic Highly Migratory Species (HMS) Fishery Management Plan (FMP), and make technical changes to clarify certain HMS regulations. This action is responsive to the framework for implementing management measures established in Amendment 14, findings from the Atlantic Shark Fishery Review (SHARE) document, public comments from scoping for Amendment 16 to the HMS FMP, and recent domestic laws and international agreements that are having direct and indirect impacts on shark fisheries. The goal of this action is to increase management flexibility to react to changes in the Atlantic shark fisheries and optimize the ability of the commercial and recreational shark fisheries to harvest quota to the extent practicable.

DATES: Written comments must be received by March 6, 2026.

ADDRESSES: A plain language summary of this proposed rule is available at: https://www.regulations.gov/docket/NOAA-NMFS-2024-0039. You may submit comments on this document, identified by NOAA-NMFS-2024-0039, by electronic submission. Submit all electronic public comments via the Federal e-Rulemaking Portal. Go to https://www.regulations.gov and enter “NOAA-NMFS-2024-0039” in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

NMFS will hold two public hearing via conference call/webinar on this proposed rule. For specific location, date and time, see the SUPPLEMENTARY INFORMATION section of this document.

Additional information related to this proposed rule, including electronic copies of the supporting documents are available from the HMS Management Division website at https://www.fisheries.noaa.gov/action/proposed-rule-revisions-commercial-atlantic-blacknose-and-recreational-atlantic-shark or by contacting Ann Williamson (ann.williamson@noaa.gov) by phone at 301-427-8503.

FOR FURTHER INFORMATION CONTACT: Guy DuBeck (guy.dubeck@noaa.gov), Ann Williamson (ann.williamson@noaa.gov), or Karyl Brewster-Geisz (karyl.brewster-geisz@noaa.gov) at 301-427-8503.

SUPPLEMENTARY INFORMATION: NMFS, on behalf of the Secretary of Commerce, is responsible for managing Federal Atlantic HMS fisheries (i.e., sharks, tunas, billfish and swordfish), pursuant to the Magnuson-Stevens Fishery Conservation and Management Act (Magnuson-Stevens Act) (16 U.S.C. 1801 et seq.) and consistent with the Atlantic Tunas Convention Act (ATCA) (16 U.S.C. 971 et seq.). The term HMS is defined at 16 U.S.C. 1802(21), and the provisions for the management of HMS are found at 16 U.S.C. 1854(g)(1). ATCA is the implementing statute for binding recommendations of the International Commission for the Conservation of Atlantic Tunas. NMFS manages HMS fisheries under the HMS FMP and its amendments. HMS implementing regulations are at 50 CFR part 635.

NMFS is proposing several changes for commercial and recreational Atlantic shark fisheries. This action is responsive to the framework for implementing management measures established in Amendment 14 (88 FR 4157, January 24, 2023), findings from the SHARE document (88 FR 16944, March 21, 2023), public comments from scoping for Amendment 16 (Notice of Intent to Prepare an Environmental Impact Statement; 88 FR 29617, May 8, 2023), and recent domestic laws and international agreements that are having direct and indirect impacts on shark fisheries (e.g., the Shark Fin Sales Elimination Act (James M. Inhofe National Defense Authorization Act for Fiscal Year 2023, Pub. L. 117-263, 136 Stat. 2395, section 5946 (December 23, 2022)) and the 2023 listing of additional Atlantic shark species under appendix II of the Convention on International Trade in Endangered Species of Wild Fauna and Flora). Specifically, in this rule, NMFS is considering options to remove the blacknose shark management boundary in the Atlantic region, modify the commercial retention limit for blacknose sharks in the Atlantic region, revise the recreational minimum size limits for Atlantic shark species, and revise the recreational retention limits for Atlantic shark species. In this action, NMFS would also remove commercial management group quota linkages consistent with Amendment 14 and make technical changes to clarify certain HMS regulations. The goal of this action is to increase management flexibility to react to additional factors affecting Atlantic shark fisheries and optimize the ability of the commercial and recreational shark fisheries to harvest available quota to the extent practicable.

NMFS has prepared a draft Environmental Assessment (EA), Regulatory Impact Review (RIR), and an Initial Regulatory Flexibility Analysis (IRFA), which present the alternatives considered for this proposed rule and analyze their anticipated environmental, social, and economic impacts. A brief summary of background information and the alternatives considered is provided below. Additional information regarding this action and Atlantic shark management overall can be found in the draft EA/RIR/IRFA, the HMS FMP and its amendments, the annual HMS Stock Assessment and Fishery Evaluation Reports, and online at: https://www.fisheries.noaa.gov/topic/atlantic-highly-migratory-species.

Statutory Authority

The Magnuson-Stevens Act requires measures necessary for the conservation and management of the fishery to be consistent with the 10 National Standards set forth in 16 U.S.C. 1851(a). Specific to the objectives of this action, the National Standards state that measures must do the following: prevent overfishing while achieving optimum yield from the fishery (National Standard 1); be based on the best scientific information available (National Standard 2); to the extent practicable, manage the stock throughout its range and manage interrelated stocks as a unit or in close coordination (National Standard 3); take into account and allow for variations among fisheries, fishery resources, and catches (National Standard 6); and minimize bycatch, and, to the extent bycatch cannot be avoided, minimize the mortality of bycatch (National Standard 9). Furthermore, the Magnuson-Stevens Act allows for management actions to designate zones where, and periods when, fishing shall be limited, or shall not be permitted, or shall be permitted only by specified types of fishing vessels or with specified types and quantities of fishing gear (16 U.S.C. 1853(b)(2)(A)). The Magnuson-Stevens Act also allows for management actions to establish specified limitations which are necessary and appropriate on the catch of fish (based on area, species, size, number, weight, sex, bycatch, total biomass, or other factors) (16 U.S.C. 1853(b)(3)(A)).

Background

NMFS finalized the first FMP for Sharks of the Atlantic Ocean in 1993 (1993 FMP) (58 FR 21931, April 26, 1993). The 1993 FMP established many of the management measures still in place today, including management complexes, commercial quotas, and recreational minimum size and retention limits. NMFS then revised the 1993 FMP to include swordfish and tunas in the 1999 FMP for Atlantic Tunas, Swordfish, and Sharks (64 FR 29090, May 28, 1999), which included numerous measures to rebuild or prevent overfishing of sharks in commercial and recreational fisheries (1999 FMP). The 1999 FMP, among other things, established a recreational minimum size limit for most shark species of 54 inches (137 centimeters (cm)) fork length (FL) and reduced recreational retention limits for all sharks to one shark per vessel per trip. In 2006, NMFS consolidated the Atlantic Tunas, Swordfish, and Shark FMP and its amendments with the Atlantic Billfish FMP and its amendments into the HMS FMP (71 FR 58058, October 2, 2006). Since then, 17 amendments to the HMS FMP have been made or initiated.

In 2008, NMFS implemented Amendment 2 to the HMS FMP (73 FR 40657, July 7, 2008, corrected at 73 FR 40658, July 15, 2008), which included, among other things, management measures that expanded the shark species authorized for recreational retention and modified recreational retention limits. The shark species then authorized for recreational retention included tiger sharks, non-ridgeback large coastal sharks (LCS) (i.e., blacktip, spinner, bull, lemon, nurse, great hammerhead, smooth hammerhead, and scalloped hammerhead sharks), small coastal sharks (SCS) (bonnethead, Atlantic sharpnose, finetooth, and blacknose sharks), and pelagic sharks (i.e., shortfin mako, common thresher, oceanic whitetip, blue, and porbeagle sharks). Recreational retention limits were set at one Atlantic sharpnose shark and one bonnethead shark per person per trip with no minimum size limit, and one per person per vessel for all other authorized shark species greater than 54 inches (137 cm) FL. Amendment 2 also set commercial retention limits to no limit for SCS for Directed shark limited access permit (LAP) holders and 16 SCS for Incidental shark LAP holders.

In 2007, Southeast Data, Assessment, and Review (SEDAR) completed a stock assessment for SCS (SEDAR 13). Consequently, NMFS determined blacknose sharks to be overfished with overfishing occurring (73 FR 25665, May 7, 2008). NMFS then implemented management measures in Amendment 3 to the HMS FMP (75 FR 30484, June 1, 2010) to, among other things, rebuild and end overfishing of blacknose sharks. Specifically, Amendment 3 linked the non-blacknose SCS and blacknose shark fisheries so that both fisheries would close when landings of either reached 80 percent of its quota.

In 2010, SEDAR conducted another stock assessment on blacknose sharks (SEDAR 21, 2011) and identified two separate stocks of blacknose sharks (one in the Atlantic Ocean and one in the Gulf of America). Accordingly, NMFS determined the Atlantic stock of blacknose sharks to be overfished with overfishing occurring, and, the Gulf of America stock of blacknose sharks to have an unknown stock status. Thus, NMFS developed Amendment 5a to the HMS FMP (78 FR 40317, July 3, 2013), in part, to address overfishing and rebuild the Atlantic blacknose shark stock. Consistent with the stock assessment determination, Amendment 5a divided the blacknose and non-blacknose SCS quotas into separate regional quotas (i.e., Atlantic and Gulf of America). In the commercial shark fishery, NMFS established regional quota linkages between management groups whose species are often caught together to prevent exceeding newly established quotas through discarded bycatch. In the recreational shark fishery, NMFS set the minimum size limit for all hammerhead sharks to 78 inches (198.1 cm) FL.

In 2015, NMFS implemented Amendment 6 to the HMS FMP (80 FR 50073, August 18, 2015), which, among other things, established a management boundary in the Atlantic region along lat. 34°00′ N (approximately at Wilmington, North Carolina) for the SCS shark fishery, maintained SCS quota linkages south of the lat. 34°00′ N management boundary, and prohibited the retention of blacknose sharks north of the lat. 34°00′ N management boundary. Also in 2015, NMFS implemented Amendment 9 to the HMS FMP (80 FR 73128, November 24, 2015) which, among other things, established management measures for smoothhound sharks in the Atlantic and Gulf of America regions. Specifically, in the recreational shark fishery, Amendment 9 established no retention limit for smoothhound sharks (i.e., smooth dogfish) with no minimum size limit.

In 2017, NMFS implemented a final rule (81 FR 90241, December 14, 2016) that established a commercial retention limit of eight blacknose sharks for all Directed and Incidental shark LAP holders in the Atlantic region south of lat. 34°00′ N. The intent of this action was to maximize the utilization of the non-blacknose SCS quota while minimizing mortality and discards of blacknose sharks, consistent with the existing rebuilding plan, and other SCS.

In 2023, NMFS finalized Amendment 14 (88 FR 4157, January 24, 2023), which, among other things, revised the framework for establishing quotas and related management measures for Atlantic shark fisheries, and incorporated for potential use several optional fishery management tools that were adopted in the revised guidelines for implementing National Standard 1 of the Magnuson-Stevens Act (81 FR 71858, October 18, 2016). Specifically, Amendment 14 modified the general procedures for establishing the acceptable biological catch and annual catch limits (ACL), and included measures to actively monitor all commercial and recreational sector ACLs. NMFS anticipates that the revised framework for establishing quota and related management measures for Atlantic shark fisheries, as established in Amendment 14, may be implemented through Amendment 16.

In 2023, NMFS conducted scoping to identify significant issues related to the management of Atlantic shark fisheries (88 FR 29617, May 8, 2023). The scoping document for Amendment 16 considered extensive changes to commercial and recreational shark fisheries' management. The management options presented for public comment included changes to commercial and recreational shark management measures related to commercial and recreational quotas, management groups, retention limits, and size limits. During scoping for Amendment 16, a number of commenters noted that Amendment 16 was too large and recommended that NMFS split management measures into multiple smaller actions. As such, NMFS decided to remove some actions from Amendment 16 and consider them separately in this rule. Thus, NMFS has already received input on many of the management options considered in this action from the public, including fishery participants and the HMS Advisory Panel. NMFS does not expect to release Draft Amendment 16 and the associated proposed rule until early 2026.

Proposed Measures

NMFS is proposing to (1) remove the blacknose shark management boundary in the Atlantic region; (2) modify the commercial retention limit for blacknose sharks in the Atlantic region; (3) revise the recreational minimum size limits for Atlantic shark species; and (4) revise the recreational retention limits for Atlantic shark species. As described below, NMFS considered two alternatives concerning the blacknose shark management boundary, three alternatives concerning the blacknose shark commercial retention limit, five alternatives concerning recreational minimum size limits, and three alternatives concerning recreational retention limits. These alternatives included both no action and the preferred alternatives. The purpose of this action is to increase management flexibility to react to additional factors affecting Atlantic shark fisheries and optimize the ability of the commercial and recreational shark fisheries to harvest available quota to the extent practicable.

Blacknose Shark Management Boundary in the Atlantic Region

NMFS is proposing, under preferred Alternative A2, to remove the lat. 34°00′ N blacknose shark management boundary in the Atlantic region. Under this alternative, vessels issued a Directed or Incidental shark LAP would be able to commercially harvest blacknose sharks in the entire Atlantic region. Currently, vessels issued a Directed or Incidental shark LAP can commercially harvest blacknose sharks only south of lat. 34°00′ N (Alternative A1).

NMFS originally implemented this management boundary under Amendment 6 in order, in part, to keep the non-blacknose SCS fishery open if there is available quota. The blacknose and non-blacknose SCS fisheries are linked management groups, and at the time, a high volume of blacknose shark landings was leading to early closures of both fisheries. The blacknose shark management boundary allowed the non-blacknose SCS fishery to remain open, north of lat. 34°00′ N, regardless of blacknose shark landings. However, in recent years, landings of both blacknose and non-blacknose SCS have decreased and neither fishery has closed early nor has either quota been fully harvested. From 2017 through 2022, commercial fishermen harvested on average approximately 36 percent of the blacknose shark commercial quota.

Additionally, as blacknose shark migratory patterns continue to expand northward in the Atlantic region (i.e., north of the current blacknose shark management boundary), maintaining the blacknose shark management boundary may increase the number of blacknose sharks discarded dead. These dead discards are more likely to occur if fishermen who catch blacknose sharks cannot retain them under their existing fishing permit(s) and they are dissuaded from obtaining an applicable fishing permit due to the management boundary. Removing the blacknose shark management boundary in the Atlantic region, under preferred Alternative A2, would facilitate full utilization of the available blacknose shark quota and be consistent with the removal of the quota linkages as approved in Amendment 14 (see the Miscellaneous Regulatory Changes and Related Rulemaking section for more information).

Blacknose Shark Commercial Retention Limit in the Atlantic Region

NMFS is proposing, under preferred Alternative B2, to establish a flexible commercial retention limit of 0 to 60 blacknose sharks per vessel per trip for vessels issued a Directed shark LAP in the Atlantic region. The default commercial retention limit that would apply at the start of each fishing year would be 25 blacknose sharks per vessel per trip for vessels issued a Directed shark LAP in the Atlantic region. Under the preferred alternative, NMFS would monitor the fishery and could adjust the commercial retention limit during the fishing year, based on the inseason trip limit adjustment criteria at § 635.24(a)(8). The current commercial retention limit (Alternative B1) is fixed at eight blacknose sharks per vessel per trip. As described above, under the current retention limit, the commercial quota has been under harvested for several years. Additionally, commercial fishermen often catch more blacknose sharks per trip than can be harvested under the current retention limit, leading to regulatory discards. The ability to adjust the retention limit throughout the fishing year could allow the quota to be fully harvested while also limiting dead discards. NMFS is not considering changes to the blacknose shark commercial retention limit for vessels used an Incidental shark LAP in the Atlantic region (i.e., eight blacknose sharks per vessel per trip) in this action.

NMFS used a maximum commercial retention limit of 60 blacknose sharks per vessel per trip for preferred Alternative B2 based on the Southeast Fisheries Science Center Observer Program data from 2017 through 2022, which showed that commercial fishermen fishing with gillnet and bottom longline gears have interacted with up to 54 blacknose sharks on a single trip in the Atlantic region. A maximum commercial retention limit of 60 blacknose sharks per vessel per trip encompasses the maximum number of blacknose shark interactions observed on a commercial fishing trip in the last several years, and therefore would minimize regulatory discards and maximize the efficiency of trips. A maximum of 60 would also include an added buffer for management flexibility, should interactions increase or other conditions change that warrant a higher retention limit.

NMFS used a default commercial retention limit of 25 blacknose sharks for preferred Alternative B2 based on a number of factors, including the commercial blacknose shark quota, fishing trends from the most active participants in the fishery, and interactions between blacknose sharks and commercial fishermen in the Atlantic region. The commercial blacknose shark quota is 37,921 pounds (lb) dressed weight (dw) (17.2 metric tons (mt) dw) and, based on Southeast Fisheries Science Center Observer Program data from 2017 through 2022, the average weight of a blacknose shark landed on commercial trips is 11.4 lb dw (0.01 mt dw). NMFS based the analysis for this alternative on the five vessels that land the majority of blacknose sharks because they are the fishery participants that target blacknose sharks on their fishing trips, whereas the remaining fishery participants generally opportunistically retain only incidentally caught blacknose sharks. Thus, it would take landing approximately 3,326 sharks to harvest the blacknose shark quota (37,921 lb dw (17,2 mt lb)/11.4 lb dw (0.01 mt dw) average per shark = 3,326.4 sharks). According to the HMS electronic dealer reporting system (eDealer) data from 2017 through 2022, 5 vessels account for the majority (78 percent) of blacknose shark landings and take an average of 137 trips a year. Thus, NMFS calculated that the top 5 most active vessels in the fishery could retain as many as 24 blacknose sharks per vessel per trip to harvest the blacknose shark quota without a fishery closure (3,326 sharks/137 trips = 24.3 sharks/trip). NMFS prefers a default commercial retention limit of 25 blacknose sharks per vessel per trip to optimize the number of blacknose sharks that could be retained per trip without significantly impacting the total number of fishing trips that could be taken in a given year to land the full quota. Additionally, a default retention limit of 25 blacknose sharks provides a buffer so Directed shark LAP holders can retain most or all blacknose shark catch on any given fishing trip.

Recreational Minimum Size Limits

NMFS is proposing, under preferred Alternative C4, to group certain shark species together and establish a recreational minimum size limit range for each group. Under this preferred alternative, the default recreational minimum size limit would be based on a midpoint value of the female sizes at maturity for the shark species in that group, or else it would remain consistent with current HMS regulations (§ 635.20(e)). The recreational minimum size limit range would encompass the female sizes at maturity for all shark species in each group, and allow the minimum size limit to be set above the female sizes at maturity for each group. This proposed approach is a change from the status quo (Alternative C1) where all sharks, unless otherwise specified, must be at least 54 inches (137 cm) FL; all hammerhead sharks must be at least 78 inches (198.1 cm) FL; and there is no size limit for Atlantic sharpnose, bonnethead, or smoothhound sharks.

Under preferred Alternative C4, NMFS grouped shark species based on a number of factors, including species that look similar, have similar sizes at maturity, or anglers could catch them in similar areas using similar fishing techniques. NMFS used the following rationale for grouping shark species together under preferred Alternative C4:

• Atlantic sharpnose, bonnethead, and smoothhound sharks: Atlantic sharpnose and bonnethead sharks could be caught in similar areas using similar fishing techniques. Currently, Atlantic sharpnose, bonnethead, and smoothhound sharks are similarly managed in the recreational shark fishery (i.e., no minimum size limit) and under preferred Alternative C4, these species would continue to have no minimum size limit. Thus, these species are grouped together.

• Blacknose and finetooth sharks: Blacknose and finetooth sharks have similar sizes at maturity. Additionally, they look similar and can be very difficult to distinguish. To avoid misidentification during recreational fishing activities, these species are grouped together.

• Blacktip and spinner sharks: Blacktip and spinner sharks look similar and can be very difficult to distinguish. To avoid misidentification during recreational fishing activities, these species are grouped together.

• Great hammerhead, scalloped hammerhead, and smooth hammerhead sharks: Hammerhead species have similar sizes at maturity. Additionally, they look very similar and distinguishing hammerhead sharks from each other is quite difficult even for the most seasoned fishermen. However, hammerhead species can be distinguished easily from other LCS. Thus, these species are grouped together.

• Bull, lemon, nurse, and tiger sharks: These LCS are grouped together because most of them have similar sizes at maturity, and they could be caught in similar areas using similar fishing techniques.

• Blue, common thresher, and porbeagle sharks: These pelagic shark species are grouped together because they have similar sizes at maturity and they could be caught in similar areas using similar fishing techniques.

Under preferred Alternative C4, NMFS would set a maximum recreational minimum size limit equal to the status quo minimum size limit (i.e., 54 inches (137.2 cm) FL) for small coastal and smoothhound sharks. For other shark species, NMFS would set a maximum recreational minimum size limit that is approximately 12 inches (30.5 cm) FL longer than the shark species in that group with the longest female size at maturity, with the exception of the two larger LCS groups (i.e., hammerhead (great, scalloped and smooth), and bull, lemon, nurse, and tiger sharks) which would have the same maximum recreational minimum size limits, to simplify the measures for fishermen. For example, blue, common thresher, and porbeagle sharks reach female size at maturity at 73 inches (185.4 cm) FL, 83 inches (210.8 cm) FL, and 82 inches (208.3 cm) FL, respectively. Of the three species in the group, common thresher shark has the longest female size at maturity (83 inches (210.3 cm) FL). Under this alternative, the maximum recreational minimum size limit would be 95 inches (241.3 cm) FL, which is 12 inches (30.5 cm) longer than the female size at maturity for common thresher shark. This would allow the recreational minimum size limit for a species group to be set equal to, above, or below the female sizes at maturity of the individual species in the group, within the defined minimum size limit range for the group. Additionally, under this alternative, NMFS could remove the recreational minimum size limit for a shark group under certain conditions. The recreational minimum size limit may be adjusted, or removed, to increase or decrease harvest rates, based on relevant factors, such as the landings and landing trends over the past 3 calendar years, the relevant recreational retention limit, and other relevant factors (e.g., health of the stock, new scientific information, and other fishery conditions).

Under preferred Alternative C4, the default recreational minimum size limits would be revised for shark groups where the midpoint value of the female sizes at maturity for the shark species in that group is smaller than the current default recreational retention limit for those species. Thus, under preferred Alternative C4, NMFS would revise the default recreational minimum size limits for the blacknose and finetooth shark group and the blacktip and spinner shark group because their female sizes at maturity are well below the current minimum size limit for these species (i.e., 54 inches (137 cm) FL). NMFS selected the default minimum size limits based on a midpoint of the sizes at maturity for the shark species grouped together. A midpoint value would result in a minimum size limit that balances differing sizes at maturity for grouped species while limiting the unintentional harvest of immature individuals of any species in the group.

Under preferred Alternative C4, the default recreational minimum size limits for other recreationally authorized shark species would continue to be consistent with current HMS regulations (§ 635.20(e)). Maintaining the status quo as the default minimum size limit would avoid unnecessarily constraining the recreational shark fishery with higher minimum size limits, given that recreational harvest is low. See table 1 for proposed shark groups and their respective recreational minimum size limit ranges and default minimum size limits under Alternative C4.

Table 1—Proposed Recreational Minimum Size Limit Ranges for Shark Groups Under Preferred Alternative C4
Shark group | Recreational minimum size limit (FL) (inches (cm)): Range | Recreational minimum size limit (FL) (inches (cm)): Default
Atlantic sharpnose, bonnethead, and smoothhound | Up to 54 (137.2), or no limit | No limit.
Blacknose and finetooth | Up to 54 (137.2), or no limit | 38 (96.5).
Blacktip and spinner | Up to 70 (177.8), or no limit | 48 (121.9).
Great hammerhead, scalloped hammerhead, and smooth hammerhead | Up to 115 (292.1), or no limit | 78 (198.1).
Bull, lemon, nurse, and tiger | Up to 115 (292.1), or no limit | 54 (137.2).
Blue, common thresher, and porbeagle | Up to 95 (241.3), or no limit | 54 (137.2).

In Amendment 14, NMFS set forth a revised framework for establishing quotas that included, among other things, a method to actively monitor the recreational sector ACLs. In short, if recreational ACLs are established, NMFS could adjust the recreational sector ACLs annually based on data from the past 3 years. The most recent 3 years of data should account for the high variability of recreational harvest and mortality, and would provide an updated representation of the recreational harvest and mortality in the fisheries outside of a stock assessment. In addition to adjusting the ACLs, as needed, NMFS could consider management measures to control mortality, such as adjustments to minimum size limits, if needed to account for underharvest and overharvest of the recreational catch. For example, in a situation where a shark species or group's recreational ACL is not fully harvested based on the average from the previous 3 years, NMFS could reduce minimum size limits to increase fishing opportunities in the following year. If a shark species or group's ACL is overharvested based on the average from the previous 3 years, NMFS could increase size limits in the following year to reduce the rate of harvest. In other words, once NMFS establishes ACLs for the recreational shark fisheries, preferred Alternative C4 would allow NMFS to effectively manage the recreational shark fishery by adjusting the minimum size to increase or decrease harvest rates based on updated mortality estimates consistent with the framework established in Amendment 14.

Recreational Retention Limits

NMFS is proposing, under preferred Alternative D2, to establish flexible recreational retention limits for shark species. The default recreational retention limits in preferred Alternative D2 would be consistent with current HMS regulations (§ 635.22(c)), with the exception of Atlantic sharpnose, bonnethead and blacktip sharks, which would have separate default recreational retention limits. NMFS would set all recreational retention limits based on a number of sharks per vessel per trip, to simplify regulations and reduce confusion regarding which species have vessel- or person-specific retention limits. Thus, NMFS would no longer manage Atlantic sharpnose and bonnethead sharks under an additional one-shark-per-person-per-vessel recreational retention limit, but under a shark(s) per-vessel-per-trip basis.

Under preferred Alternative D2, NMFS would set maximum recreational retention limits for shark species as shown in table 2. These limits are generally consistent with recreational regulations in state waters of relevant states, which is where the majority of recreational shark catches occur. The recreational retention limit for a given species or group of species may be adjusted within the defined retention limit range for the species or group of species, or removed entirely, to increase or decrease harvest rates, based on the inseason trip limit adjustment criteria listed in § 635.24(a)(8). If a recreational retention limit is removed for a species, or group of species, per the criteria listed in § 635.24(a)(8), there would be no limit to the number of sharks of that species, or group of species, that could be retained per vessel per trip. See table 2 for the proposed recreational retention limit ranges, including the default retention limit, for shark species under Alternative D2. This preferred alternative would be a shift from the status quo (Alternative D1) where the retention limit is fixed at one shark per vessel per trip for most species; one Atlantic sharpnose shark and one bonnethead shark per person per trip; and no retention limit for smoothhound sharks.

Table 2—Proposed Recreational Retention Limit Ranges for Sharks Under Preferred Alternative D2
Shark species | Recreational retention limit (sharks/vessel/trip): Range | Recreational retention limit (sharks/vessel/trip): Default
Sharks from the following list: blacknose, blue, bull, common thresher, finetooth, great hammerhead, scalloped hammerhead, smooth hammerhead, lemon, nurse, porbeagle, spinner, and tiger | 1 to 3, or no limit | 1.
Atlantic sharpnose | 1 to 4, or no limit | 1.
Bonnethead | 1 to 4, or no limit | 1.
Blacktip | 1 to 5, or no limit | 1.
Smoothhound | 1 to 4, or no limit | No limit.

As discussed above, NMFS intends in the future to begin actively monitoring and adjusting the recreational sector ACLs. When doing this, as needed, NMFS would consider adjustments to recreational retention limits to control mortality and account for underharvests and overharvests of the recreational sector ACLs. This alternative would allow NMFS to adjust accountability measures annually based on updated mortality estimates from the previous 3 years and more effectively manage the recreational shark fishery. Flexible recreational retention limits would allow NMFS to update the recreational retention limits consistent with the framework established in Amendment 14.

Other Alternatives Considered

In addition to the proposed measures described above, in the EA for this action, NMFS analyzed four no action alternatives (i.e., Alternatives A1, B1, C1, and D1) that would maintain the status quo in the commercial and recreational shark fisheries. NMFS does not prefer the no action alternatives because they do not meet the objectives of the rulemaking. The EA for this action also describes the impacts of other alternatives. In the commercial shark fishery, there is one other alternative, to remove the blacknose shark commercial retention limit in the Atlantic region (Alternative B3). In the recreational shark fishery, there are four other alternatives regarding minimum size and retention limits: establish minimum size limits for sharks based on each species' female size at maturity (Alternative C2); establish minimum size limits for shark groups based on grouped species' female sizes at maturity (Alternative C3); remove minimum size limits for sharks (Alternative C5); and remove retention limits (Alternative D3). At this time, NMFS does not prefer any alternative that would remove accountability measures (retention limits and minimum size limits) in commercial and recreational shark fisheries and reduce NMFS' ability to actively manage shark fisheries and ensure equitable fishing opportunities for all fishermen. Additionally, NMFS does not prefer any alternative that would not increase management flexibility and allow for additional opportunities to harvest available quota to achieve optimum yield, consistent with National Standard 1 and the objective of this rulemaking.

Additional Proposed Regulatory Changes

NMFS is proposing to remove commercial management group quota linkages specified in § 635.28(b)(3) and (4), consistent with Amendment 14. In Amendment 14, NMFS approved a management option to remove commercial management group quota linkages to allow fisheries to remain open all year and ensure that each shark management group or species' quota is fully utilized. Once an ACL is reached, NMFS would close that fishery to prevent overharvest. Amendment 14 did not include any implementing regulations; therefore, NMFS is proposing to remove the commercial management group quota linkages.

NMFS is proposing to clarify some of the existing references to thresher shark in the regulations to specify to which species of thresher shark (i.e., common or bigeye) the regulations apply. Currently, the regulations refer to “common thresher” shark and “thresher” shark interchangeably as an authorized species in commercial and recreational shark fisheries and “bigeye thresher” shark as a prohibited species. Because there are two species of thresher shark (i.e., common and bigeye), the use of “thresher” shark in the regulations could cause confusion for fishery participants and enforcement regarding which species of thresher shark the regulations apply to. Revising “thresher” shark to “common thresher” shark would create consistency with other references to the common thresher shark in HMS regulations and reduce the potential for confusion with the prohibited bigeye thresher shark. The regulations themselves are not changing; the applicable commercial and recreational fishery management measures would continue to apply to common thresher shark and bigeye thresher shark would continue to be a prohibited species. For example, under § 635.24, the shark species previously referred to as “thresher” shark would be changed to “common thresher” shark. Accordingly, in table 1 of appendix A to part 635—Oceanic Sharks, and table 2 of appendix A to part 635—Pelagic Species, the shark species previously referred to as “Thresher shark, Alopias vulpinus” would be changed to “Common thresher shark, Alopias vulpinus.”

NMFS is also proposing to update the name of the management group “pelagic sharks other than blue or porbeagle” to “common thresher and shortfin mako sharks” throughout the HMS regulations. This change is to clarify that the only shark species that can be harvested from this management group is common thresher shark and, when authorized, shortfin mako shark. This revision does not change the species within this management group (i.e., common thresher and shortfin mako sharks) or within the pelagic shark complex.

NMFS is proposing to remove several references to oceanic whitetip sharks in commercial fishery regulations in §§ 635.21(c)(1)(ii), 635.31(c)(6), and 635.71(d)(19). On January 3, 2024, NMFS published a final rule (89 FR 278) that prohibited the retention and possession of oceanic whitetip sharks in commercial and recreational fisheries in Federal waters of the Atlantic Ocean, including the Gulf of America and Caribbean Sea, effective February 2, 2024. In that rulemaking, NMFS inadvertently left several references to oceanic whitetip sharks in the commercial fishery regulations. Removing the references to oceanic whitetip sharks in commercial fisheries would further clarify the intent of the final rule that prohibited the retention and possession of oceanic whitetip sharks in all HMS fisheries.

NMFS is also proposing several technical changes. In § 635.20(e)(6) (redesignated to paragraph (e)(8) in this action), NMFS would revise “fork length” to “FL” for consistency with the defined acronym and use of “FL” for “fork length” in HMS regulations. In § 635.28(b)(1)(iii) and (v), NMFS would revise the references to publication of a notice in the Federal Register to a more general reference of publication in the Federal Register for consistency with other references in HMS regulations. Section 635.28(b)(5) (which would be redesignated as paragraph (b)(4) by this proposed action) would also be revised for grammatical improvement and to update a Code of Federal Regulations reference to the paragraph level. These clarifications would improve the administration of HMS regulations and are consistent with previously analyzed and approved management measures.

Request for Comments

NMFS is requesting comments on this proposed rule, which may be submitted via https://www.regulations.gov or at a public hearing. NMFS solicits comments on this action by March 6, 2026 (see DATES and ADDRESSES sections).

During the comment period, NMFS will hold two public hearings via webinar for this proposed action, as shown in table 3. Requests for sign language interpretation or other auxiliary aids should be directed to Ann Williamson at ann.williamson@noaa.gov or 301-427-8503, at least 7 days prior to the meeting. In addition, any requests for in-person public hearings during the comment period should be directed to Ann Williamson at ann.williamson@noaa.gov or 301-427-8503.

Table 3—Dates and Times of Upcoming Public Hearing Webinars
Dates and times | Webinar information
January 22, 2026, 10 a.m.-12 p.m. ET January 29, 2026, 2 p.m.-4 p.m. ET | https://www.fisheries.noaa.gov/action/proposed-rule-revisions-commercial-atlantic-blacknose-and-recreational-atlantic-shark.

The public is reminded that NMFS expects participants at the public hearings to conduct themselves appropriately. At the beginning of each public hearing, a representative of NMFS will explain the ground rules (e.g., alcohol is prohibited from the hearing room, attendees will be called to give their comments in the order in which they registered to speak, each attendee will have an equal amount of time to speak, and attendees should not interrupt one another). At the beginning of each webinar, the moderator will explain how the webinar will be conducted and how and when participants can provide comments. The NMFS representative(s) will attempt to structure the webinar so that all attending members of the public will be able to comment, if they so choose, regardless of the controversial nature of the subject(s). Attendees are expected to respect the ground rules, and if they do not, they may not be allowed to speak during the webinar.

Classification

The NMFS Assistant Administrator has determined that this proposed rule is consistent with the HMS FMP and its amendments, other provisions of the Magnuson-Stevens Act, ATCA, and other applicable law, subject to further consideration after public comment.

This proposed rule has been determined to be not significant for purposes of E.O. 12866.

This final rule is not an E.O. 14192 regulatory action because this action is not significant under E.O. 12866.

An IRFA was prepared, as required by section 603 of the Regulatory Flexibility Act (RFA) (5 U.S.C. 601 et seq.). The IRFA describes the economic impact that this proposed rule, if adopted, would have on small entities. A description of the action, why it is being considered, and the legal basis for this action are contained at the beginning of this section in the preamble and in the SUMMARY section of the preamble. A summary of the analysis follows. A copy of this analysis is available from NMFS (see ADDRESSES section).

Section 603(b)(1) requires agencies to describe the reasons why the action is being considered. The purpose of this proposed rulemaking is to increase management flexibility to react to additional factors impacting Atlantic shark fisheries and optimize the ability of the commercial and recreational shark fisheries to harvest available quota to the extent practicable, consistent with the objectives of the HMS FMP and its amendments, the Magnuson-Stevens Act, and other applicable laws. Implementation of the proposed rule would further the management goals and objectives stated in the HMS FMP and its amendments.

Section 603(b)(2) of the RFA requires agencies to state the objectives of, and legal basis for, the proposed action. The objective of this proposed rulemaking is to be responsive to the framework for implementing management measures established in Amendment 14, findings from the SHARE document, public comments from scoping for Amendment 16, and recent domestic laws and international agreements that are having direct and indirect impacts on the commercial fishery. The legal basis for the proposed rule is the Magnuson-Stevens Act.

Section 603(b)(3) of the RFA requires agencies to provide an estimate of the number of small entities to which the proposed rule would apply. For RFA compliance purposes, NMFS established a small business size standard of $11 million in annual gross receipts for all businesses in the commercial fishing industry (North American Industry Classification System (NAICS) 11411). The Small Business Administration (SBA) has established size standards for all other major industry sectors in the United States, including the scenic and sightseeing transportation (water) sector (NAICS code 487210), which includes for-hire (charter/party boat) fishing entities. The SBA has defined a small entity under the scenic and sightseeing transportation (water) sector as one with average annual receipts (i.e., revenue) of less than $14 million. Therefore, NMFS considers all HMS permit holders, both commercial and for-hire, to be small entities because they had average annual receipts of less than their respective sector's standard of $11 million and $14 million. The 2022 total ex-vessel annual revenue for the shark fishery was approximately $2.2 million. Since a small business is defined as having annual receipts not in excess of $11 million, each individual shark fishing entity would fall within the small business definition. Thus, all of the entities affected by this rulemaking are considered to be small entities for the purposes of the RFA.

As of October 2023, there were 188 Shark Directed permits and 221 Shark Incidental permits. As of December 2023, there were 4,324 HMS Charter/Headboat permits (with 3,085 shark endorsements and 2,014 commercial sale endorsements), 24,552 HMS Angling permits (with 12,840 shark endorsements), and 3,471 Atlantic Tunas General and Swordfish General Commercial permits (with 1,709 shark endorsements). For more information regarding the distribution of these permits across states and territories please see the HMS Stock Assessment and Fishery Evaluation Report.

Section 603(b)(4) of the RFA requires agencies to describe any new reporting, record-keeping, and other compliance requirements. This proposed rule does not contain any new collection of information, reporting, or record-keeping requirements. This proposed rule would remove the blacknose shark management boundary in the Atlantic region, modify the commercial retention limit for blacknose sharks in the Atlantic region, revise the recreational minimum size limits for Atlantic shark species, and revise the recreational retention limits for Atlantic shark species.

Under section 603(b)(5) of the RFA, agencies must identify, to the extent practicable, relevant Federal rules which duplicate, overlap, or conflict with the proposed action. Fishermen, dealers, and managers in these fisheries must comply with a number of international agreements, domestic laws, and other fishery management measures. These include, but are not limited to, the Magnuson-Stevens Act, ATCA, the High Seas Fishing Compliance Act, the Marine Mammal Protection Act, the Endangered Species Act, the National Environmental Policy Act, the Paperwork Reduction Act, and the Coastal Zone Management Act. This proposed action has been determined not to duplicate, overlap, or conflict with any Federal rules.

Under section 603(c) of the RFA, agencies must describe any significant alternatives to the proposed rule which accomplish the stated objectives of applicable statutes and which minimize any significant economic impact of the proposed rule on small entities. Specifically, section 603(c)(1)-(4) of the RFA lists four general categories of significant alternatives to assist an agency in the development of significant alternatives. These categories of alternatives are (1) establishment of differing compliance or reporting requirements or timetables that take into account the resources available to small entities; (2) clarification, consolidation, or simplification of compliance and reporting requirements under the rule for such small entities; (3) use of performance rather than design standards; and, (4) exemptions from coverage of the rule, or any part thereof, for small entities.

Regarding the first, second, and fourth categories, all of the businesses impacted by this proposed rule are considered small entities, and thus the requirements are already designed for small entities. Regarding the third category, NMFS does not know of any performance or design standards that would satisfy the aforementioned objectives of this rulemaking. As described below, NMFS analyzed several different alternatives in this proposed rulemaking and provides rationales for identifying the preferred alternatives to achieve the desired objectives.

The alternatives considered and analyzed are described below. The IRFA assumes that each vessel will have similar catch and gross revenues to show the relative impact of the proposed action on vessels.

Under Alternative A1, the No Action alternative, NMFS would continue management based on the current blacknose shark management boundary in the Atlantic region. Currently, blacknose sharks may be commercially harvested only south of lat. 34°00′ N by vessels issued a Directed or Incidental shark LAP. Vessels issued a Directed or Incidental shark LAP would not be allowed to retain blacknose sharks north of lat. 34°00′ N. Thus, Alternative A1 would not result in any additional economic impact for HMS permit holders, and would have neutral economic impacts on the small entities participating in this fishery.

Under Alternative A2 (preferred), NMFS would remove the blacknose shark management boundary and allow blacknose sharks to be commercially harvested in the entire Atlantic region by vessels issued a Directed or Incidental shark LAP. This alternative would expand fishing opportunities for commercial vessels issued a Directed or Incidental Shark LAP, including those that operate north and south of lat. 34°00′ N, as they would be able to fish for and retain blacknose sharks caught anywhere in the Atlantic region. This is particularly significant, given that the commercial quota is under harvested (from 2017 through 2022, on average only 36.3 percent of the quota was utilized), and the stock's range is expanding further northward along the Atlantic coast. Thus, Alternative A2 would have minor beneficial economic impacts on the small entities participating in the fishery, as they would further optimize the commercial fishery's ability to fully utilize the available quota and earn additional income from the sale of blacknose sharks.

Under Alternative B1, the No Action alternative, NMFS would maintain the current commercial retention limit of eight blacknose sharks per vessel per trip for vessels issued a Directed shark LAP in the Atlantic region. Alternative B1 would not result in any change in fishing effort, and would have neutral economic impacts on the small entities participating in the fishery.

Under Alternative B2 (preferred), NMFS would establish a flexible commercial retention limit of 0 to 60 blacknose sharks per vessel per trip for vessels issued a Directed shark LAP in the Atlantic region. The default commercial retention limit that would apply at the start of each fishing year would be 25 blacknose sharks per vessel per trip. The commercial retention limit could be adjusted during the fishing year based on the inseason trip limit adjustment criteria at § 635.24(a)(8). Under this alternative, the potential gross revenue for each vessel that has landed the default retention limit for blacknose sharks would be approximately $402 per vessel per trip, with gross revenue per trip from blacknose sharks ranging from approximately $0 to $964 under the 0-to-60 blacknose shark commercial retention limit, respectively (see table 4.5 in the EA). A higher default commercial retention limit for blacknose sharks would provide new economic benefits to Directed shark LAP holders. While revenue could increase on a per-trip basis, the total potential revenue per year available to the entire fleet would not change because the blacknose shark commercial quota would not change. Thus, preferred Alternative B2 would likely result in neutral to minor beneficial economic impacts on the small entities participating in this fishery since the default commercial retention limit is set above the status quo commercial retention limit, which would result in Directed shark LAP holders realizing higher trip revenues by selling more blacknose sharks per trip. The impacts could be minor adverse if the commercial quota is harvested and the fishery closes early in the year. However, an early fishery closure is unlikely because NMFS would actively monitor the quota and if catch rates are high, NMFS could reduce the retention limit to extend the commercial fishery.

Under Alternative B3, NMFS would remove the commercial retention limit for blacknose sharks in the Atlantic region. For commercial vessels issued a Directed shark LAP, there would be no trip limit for blacknose sharks, as long as catch rates remain within the available blacknose shark quota. Based on average ex-vessel prices from 2017 through 2022 ($1.41 per pound dressed weight), the commercial fleet earned an average of $19,394 in revenue per year from blacknose sharks. During the same time, on average only 36.3 percent of the quota was harvested by an average of 17 active vessels (78 percent of the landings were from five vessels). Fully harvesting the blacknose shark commercial quota could result in an estimated annual total fleet revenue of approximately $53,532 and an individual vessel revenue of approximately $3,149 (across the fleet) or approximately $10,706 (for the top five vessels). However, the opportunity to retain blacknose sharks without a retention limit could lead to a faster harvest of the available commercial quota and an early fishery closure. This may create a sense of urgency for Directed shark LAP holders to harvest the quota as quickly as possible. Furthermore, removing the commercial retention limit would eliminate an accountability measure for ensuring equitable fishing opportunities for all Directed shark LAP holders. Thus, Alternative B3 would likely result in minor adverse economic impacts on the small entities participating in this fishery because the absence of a commercial retention limit could result in reaching and/or exceeding the commercial quota earlier in the fishing year and necessitate early fishery closure, which could limit opportunities to earn revenue from blacknose sharks year round.

The recreational minimum size and retention limit alternatives considered in this proposed rule apply to HMS Angling and HMS Charter/Headboat permit holders, and Atlantic Tunas General category and Swordfish General Commercial permit holders when participating in a registered HMS tournament. HMS Angling permit holders are not considered to be small entities under RFA. Small entity impacts from recreational minimum size and retention limit alternatives would primarily be associated with HMS Charter/Headboat permit holders, and to a less extent, the occasional participation of Atlantic Tunas General category and Swordfish General Commercial permit holders in registered HMS tournaments.

Under Alternative C1, the No Action alternative, NMFS would maintain the current recreational minimum size limits for sharks, as follows: all sharks, unless otherwise specified, must be at least 54 inches (137 cm) FL; all hammerhead sharks must be at least 78 inches (198.1 cm) FL; and there is no size limit for Atlantic sharpnose, bonnethead, or smoothhound sharks. Alternative C1 would not result in any change in fishing effort, and would have neutral economic impacts on the small entities, primarily HMS Charter/Headboat permit holders, participating in the fishery.

Under Alternative C2, NMFS would establish recreational minimum size limits that are specific to the female size at maturity for each species. While this alternative would increase opportunities to harvest shark species that mature at lengths shorter than the current recreational minimum size limit, there would be decreased opportunities to harvest shark species that mature at lengths longer than the current minimum size limit. Additionally, charter crew would need to keep track of a large number of minimum size limits and identify each shark to the species level. If a prohibited or undersized shark is retained due to misidentification or other reasons, a civil penalty could be assessed. Thus, Alternative C2 could have minor adverse economic impacts on the small entities participating in the fishery.

Under Alternative C3, NMFS would group certain shark species together and set a recreational minimum size limit for each group, based on a midpoint value for the female sizes at maturity for the shark species in that group. Similar to Alternative C2, this alternative would increase opportunities to harvest shark species that mature at lengths shorter than the current recreational minimum size limit, and reduce opportunities to harvest shark species that mature at lengths longer than the current minimum size limit. Also similar to Alternative C2, this alternative would require charter crew to track a larger number of minimum size limits compared to the status quo and to identify sharks at the species level, which could result in increased unintentional illegal harvest of undersized individuals due to misidentification. However, by grouping species together, this alternative would simplify management compared to Alternative C2 while reducing the harvest of immature or misidentified sharks. Thus, Alternative C3 would have neutral economic impacts on the small entities participating in the fishery.

Under Alternative C4 (preferred), NMFS would group certain shark species together and establish flexible recreational minimum size limits for each group. Default recreational minimum size limits would be based on a midpoint value of the female sizes at maturity for the shark species in that group, or be consistent with current HMS regulations. Specifically, NMFS would revise the default recreational minimum size limits for shark groups where the midpoint value of the female sizes at maturity for the shark species in that group is smaller than the current default recreational retention limit for those species. This alternative would increase opportunities to harvest shark species that mature at lengths shorter than the current recreational minimum size limit, and if minimum size limits are reduced below the default, further opportunities for harvest may be realized. However, if minimum size limits are increased above the default, there would be decreased opportunities to harvest those shark species. Thus, Alternative C4 would have neutral to minor beneficial economic impacts on the small entities participating in the fishery.

Under Alternative C5, NMFS would remove recreational minimum size limits for shark species and thus allow the retention of recreationally authorized shark species of any size. While the absence of recreational minimum size limits would increase opportunities for shark harvest, high rates of harvest would risk a fishery closure. However, given the catch-and-release nature of the recreational shark fishery, substantial increases in shark harvest rates are unlikely. Additionally, removing recreational minimum size limits would eliminate an accountability measure to control harvest levels, and a management tool to aid in rebuilding some shark species by allowing sharks to be harvested before they reach maturity, which could impact fishing opportunities in the future. Thus, Alternative C5 would have minor adverse to neutral economic impacts on the small entities participating in the fishery.

Under Alternative D1, the No Action alternative, NMFS would maintain the current recreational retention limits. The current recreational retention limit allows one shark from the following list per vessel per trip: Atlantic blacktip, Gulf of America blacktip, bull, great hammerhead, scalloped hammerhead, smooth hammerhead, lemon, nurse, spinner, tiger, blue, common thresher, porbeagle, Atlantic sharpnose, finetooth, Atlantic blacknose, Gulf of America blacknose, and bonnethead. Additionally, there is a recreational retention limit of one shark per person per trip for Atlantic sharpnose and bonnethead. There is no recreational retention limit for smoothhound sharks. Alternative D1 would not result in any change in fishing effort, and would have neutral economic impacts on the small entities participating in the fishery.

Under Alternative D2 (preferred), NMFS would establish flexible recreational retention limits for sharks. Default recreational retention limits would be consistent with current HMS regulations, except for Atlantic sharpnose, bonnethead, and blacktip sharks, which will have separate default recreational retention limits on a per-vessel-per-trip basis. This alternative would increase opportunities to harvest sharks, particularly those species that would have separate recreational retention limits (e.g., blacktip sharks). These opportunities would be further expanded if the recreational retention limits are increased above the default limits; conversely, opportunities could be decreased if the retention limits are lowered below the default limits. Additionally, higher recreational retention limits would increase opportunities for HMS Charter/Headboat permit holders to offer more attractive offshore shark trips (particularly for pelagic sharks) given the potentially higher retention limits, and thus potentially earn more revenue from higher priced charters and/or greater demand for charter trips. Thus, Alternative D2 would likely result in minor beneficial economic impacts on the small entities providing for-hire fishing trips in the fishery.

Under Alternative D3, NMFS would remove recreational retention limits for sharks, allowing the retention of an unlimited number of sharks on a per-trip basis. This alternative would increase opportunities to harvest sharks. Additionally, the absence of recreational retention limits would increase opportunities for HMS Charter/Headboat permit holders to offer more attractive offshore shark trips (particularly for pelagic sharks) without retention limits, and thus potentially earn more revenue from higher priced charters and/or greater demand for charter trips. Increased opportunities to potentially increase for-hire revenue would potentially be offset by a fishery closure if harvest levels exceed the available quotas. However, without recreational retention limits, NMFS would be unable to control harvest levels in the recreational shark fishery and high catch rates could lead to fishery closures. Closures in the recreational shark fishery could have negative economic impacts, particular for HMS Charter/Headboat permit holders. Thus, Alternative D3 would have neutral to minor adverse economic impacts on the small entities participating in the fishery.

This proposed rule contains no information collection requirements under the Paperwork Reduction Act of 1995.

List of Subjects in 50 CFR Part 635

Fisheries, Fishing, Fishing vessels, Foreign relations, Imports, Penalties, Reporting and recordkeeping requirements, Statistics, Treaties.

Dated: December 31, 2025.
Samuel D. Rauch III,
Deputy Assistant Administrator for Regulatory Programs, National Marine Fisheries Service.

For the reasons set out in the preamble, NMFS proposes to amend 50 CFR part 635 as follows:

PART 635—ATLANTIC HIGHLY MIGRATORY SPECIES

1. The authority citation for part 635 continues to read as follows:

Authority: 16 U.S.C. 971 et seq.; 16 U.S.C. 1801 et seq.

2. In § 635.2, revise the definition of “management group” to read as follows:

§ 635.2 Definitions.

* * * * *

Management group in regard to sharks means a group of shark species that are combined for quota management purposes. A management group may be split by region or sub-region, as defined at § 635.27(b)(1). A fishery for a management group can be opened or closed as a whole or at the regional or sub-regional levels. Sharks have the following management groups: Atlantic aggregated LCS, Gulf of America aggregated LCS, research LCS, hammerhead, Atlantic non-blacknose SCS, Gulf of America non-blacknose SCS, and common thresher and shortfin mako sharks.

* * * * *

3. In § 635.20, revise paragraph (e) to read as follows:

§ 635.20 Size limits.

* * * * *

(e) Sharks. All size limits in this paragraph (e) and listed in table 1 to paragraph (e) are recreational minimum size limits. No person on a vessel that has been issued, or should have been issued, a permit with a shark endorsement under § 635.4 shall take, possess, or retain a shark that is less than the relevant minimum size limit. At the start of each fishing year and consistent with the retention limits specified at § 635.22(c), the default minimum size limits will apply. During the fishing year, NMFS may adjust minimum size limits within the range specified in table 1 to paragraph (e) based upon a review of the landings and landing trends over the past 3 calendar years, the relevant retention limit specified at § 635.22(c), and any other relevant factors. NMFS will announce any adjustments to minimum size limits by publication in the Federal Register. The adjusted minimum size limit(s) will remain in effect through the end of the fishing year or until otherwise adjusted.

Table 1 to Paragraph (e)—Shark Recreational Minimum Size Limits
Shark species | Default recreational minimum size limit (FL) | Recreational minimum size limit range (FL)
Atlantic sharpnose, bonnethead, and smoothhound | No limit | 0 in (0 cm)-54 in (137.2 cm), or no limit.
Blacknose and finetooth | 38 in (96.5 cm) | 0 in (0 cm)-54 in (137.2 cm), or no limit
Blacktip and spinner | 48 in (121.9 cm) | 0 in (0 cm)-70 in (177.8 cm), or no limit.
Great hammerhead, scalloped hammerhead, and smooth hammerhead | 78 in (198.1 cm) | 0 in (0 cm)-115 in (292.1 cm), or no limit.
Bull, lemon, nurse, and tiger | 54 in (137.2 cm) | 0 in (0 cm)-115 in (292.1 cm), or no limit.
Blue common thresher, and porbeagle | 54 in (137.2 cm) | 0 in (0 cm)-95 in (241.3 cm) or no limit.
Shortfin mako | Males: 71 in (180 cm) Females: 83 in (210 cm) | No range.

* * * * *

4. In § 635.21, revise paragraph (c)(1)(ii) to read as follows:

§ 635.21 Gear operation and deployment restrictions.

* * * * *

(c) * * *

(1) * * *

(ii) Has pelagic longline gear on board, persons aboard that vessel may not possess, retain, transship, land, sell, or store silky sharks or scalloped, smooth, or great hammerhead sharks.

* * * * *

5. In § 635.22, revise paragraph (c) to read as follows:

§ 635.22 Recreational retention limits.

* * * * *

(c) Sharks. (1) All retention limits in this paragraph (c)(1) and listed in table 1 to Paragraph (c)(1) are recreational retention limits. No person on a vessel that has been issued, or should have been issued, a permit with a shark endorsement under § 635.4, shall take, possess, or retain more sharks than the relevant retention limit, except as noted in paragraph (c)(3) of this section. At the start of each fishing year and consistent with the minimum size limits specified at § 635.20(e), the default recreational limits will apply. During the fishing year, NMFS may adjust retention limits within the range specified in table 1 to Paragraph (c) based upon the inseason trip limit adjustment criteria listed in § 635.24(a)(8). NMFS will announce any adjustments to retention limits by publication in the Federal Register. The adjusted retention limit(s) will remain in effect through the end of the fishing year or until otherwise adjusted.

Table 1 to Paragraph (c)—Shark Recreational Retention Limits
Shark species | Default recreational retention limit (sharks per vessel per trip) | Recreational retention limit range (sharks per vessel per trip)
Sharks from the following list combined: ¹ blacknose, blue, bull, common thresher, finetooth, great hammerhead, ² scalloped hammerhead,² smooth hammerhead,² lemon, nurse, porbeagle, spinner, and tiger | 1 | 0-3, or no limit.
Atlantic sharpnose | 1 | 0-4, or no limit.
Bonnethead | 1 | 0-4, or no limit.
Blacktip | 1 | 0-5, or no limit.
Sandbar | 0 | 0.
Silky | 0 | 0.
Smoothhound | No limit | 0-4, or no limit.
Shortfin mako | 0 | 0-1.
Prohibited sharks or parts of prohibited sharks | 0 | 0.
¹ The default or adjusted retention limit applies to the group of listed shark species, as a whole. For example, under the default retention limit, if one blacknose shark is retained, then the retention limit for the group has been met, and no other shark from the group may be retained.
² No scalloped, smooth, or great hammerhead sharks may be retained, possessed, or landed in or from the Caribbean, as defined at § 622.2 of this chapter.

(2) A person on board a vessel that has been issued or is required to be issued a permit with a shark endorsement under § 635.4 is required to use non-offset, corrodible circle hooks as specified in § 635.21(e) and (j) in order to retain sharks per the retention limits specified in this section.

(3) For persons on board vessels issued both a commercial shark permit and a permit with a shark endorsement, the recreational retention limit and sale prohibition applies for shortfin mako sharks at all times, even when the commercial common thresher and shortfin mako sharks quota is open. If such vessels retain a shortfin mako shark under the recreational retention limit, all other sharks retained by such vessels may be retained only under the applicable recreational retention limits and may not be sold. If a commercial Atlantic shark quota is closed under § 635.28(b), the recreational retention limit for sharks and no sale provision in paragraph (a) of this section will be applied to persons aboard a vessel issued a Federal Atlantic commercial shark vessel permit under § 635.4(e), if that vessel has also been issued a permit with a shark endorsement under § 635.4(b) and is engaged in a for-hire fishing trip or is participating in a registered HMS tournament per § 635.4(c)(2).

* * * * *

6. In § 635.24, revise paragraphs (a)(4)(i) through (iv) to read as follows:

§ 635.24 Commercial retention limits for sharks, swordfish, and BAYS tunas.

* * * * *

(a) * * *

(4) * * *

(i) Except as provided in § 635.22(c)(3), a person who owns or operates a vessel that has been issued a directed shark LAP may retain, possess, land, or sell pelagic sharks if the pelagic shark fishery is open per §§ 635.27 and 635.28. Shortfin mako sharks may be retained by persons aboard vessels using pelagic longline, bottom longline, or gillnet gear only if NMFS has adjusted the commercial retention limit above zero pursuant to paragraph (a)(4)(v) of this section and only if the shark is dead at the time of haulback and consistent with the provisions of §§ 635.21(c)(1), (d)(5), and (f)(6) and 635.22(c)(3).

(ii) A person who owns or operates a vessel that has been issued a shark LAP and is operating in the Atlantic region, as defined at § 635.27(b)(1), may retain, possess, land, or sell blacknose and non-blacknose SCS if the respective blacknose and non-blacknose SCS management groups are open per §§ 635.27 and 635.28. At the start of each fishing year, such persons may retain, possess, land, or sell no more than 25 blacknose sharks per vessel per trip. During the fishing year, NMFS may adjust the commercial retention limit for blacknose sharks to a limit between 0 and 60 sharks per vessel per trip, per the inseason trip limit adjustment criteria listed in paragraph (a)(8) of this section. A person who owns or operates a vessel that has been issued a shark LAP and is operating in the Gulf of America region, as defined at § 635.27(b)(1), may not retain, possess, land, or sell any blacknose sharks, but may retain, possess, land, or sell non-blacknose SCS if the respective non-blacknose SCS management group is open per §§ 635.27 and 635.28.

(iii) Consistent with paragraph (a)(4)(ii) of this section, a person who owns or operates a vessel that has been issued an incidental shark LAP may retain, possess, land, or sell no more than 16 SCS and pelagic sharks, combined, per vessel per trip, if the respective fishery is open per §§ 635.27 and 635.28. Of those 16 SCS and pelagic sharks per vessel per trip, no more than 8 shall be blacknose sharks. Shortfin mako sharks may be retained only under the commercial retention limits by persons using pelagic longline, bottom longline, or gillnet gear only if NMFS has adjusted the commercial retention limit above zero pursuant to paragraph (a)(4)(v) of this section and only if the shark is dead at the time of haulback and consistent with the provisions at § 635.21(c)(1), (d)(5), and (f)(6). If the vessel has also been issued a permit with a shark endorsement and retains a shortfin mako shark, recreational retention limits apply to all sharks retained and none may be sold, per § 635.22(c)(3).

(iv) A person who owns, operates, or is aboard a vessel that has been issued an HMS Commercial Caribbean Small Boat permit may retain, possess, land, or sell any blacktip, bull, lemon, nurse, spinner, tiger, Atlantic sharpnose, bonnethead, finetooth, and smoothhound shark, subject to the HMS Commercial Caribbean Small Boat permit shark retention limit. A person who owns, operates, or is aboard a vessel that has been issued an HMS Commercial Caribbean Small Boat permit may not retain, possess, land, or sell any hammerhead, blacknose, silky, sandbar, blue, common thresher, shortfin mako, or prohibited shark, including parts or pieces of these sharks. The shark retention limit for a person who owns, operates, or is aboard a vessel issued an HMS Commercial Caribbean Small Boat permit will range from zero to three sharks per vessel per trip. At the start of each fishing year, the default shark trip limit will apply. During the fishing year, NMFS may adjust the default shark trip limit per the inseason trip limit adjustment criteria listed in paragraph (a)(8) of this section. The default shark retention limit for the HMS Commercial Caribbean Small Boat permit is three sharks per vessel per trip.

* * * * *

7. In § 635.27, revise paragraphs (b)(1)(i)(D), (b)(1)(iii)(D), and (b)(4)(i) to read as follows:

§ 635.27 Quotas.

* * * * *

(b) * * *

(1) * * *

(i) * * *

(D) Atlantic blacknose sharks. The base annual commercial quota for Atlantic blacknose sharks is 17.2 mt dw.

* * * * *

(iii) * * *

(D) Pelagic sharks. The base annual commercial quotas for pelagic sharks are 273.0 mt dw for blue sharks, 1.7 mt dw for porbeagle sharks, and 488.0 mt dw for common thresher and shortfin mako sharks.

* * * * *

(4) * * *

(i) The base annual quota for persons who collect LCS other than sandbar, SCS, common thresher sharks, blue sharks, porbeagle sharks, or prohibited species under a display permit or EFP is 57.2 mt ww (41.2 mt dw).

* * * * *

8. In § 635.28,

a. Revise paragraphs (b)(1)(iii) and (v) and (b)(2);

b. Remove paragraphs (b)(3) and (4);

c. Revise newly redesignated paragraph (b)(4); and,

d. Redesignate paragraphs (b)(5) through (7) as paragraphs (b)(3) through (5).

The revisions read as follows:

§ 635.28 Fishery closures.

* * * * *

(b) * * *

(1) * * *

(iii) After accounting for overharvests as specified at § 635.27(b)(2), the overall, regional, and/or sub-regional quota, as applicable, is determined to be zero or close to zero and NMFS has closed the fishery by publication in the Federal Register;

* * * * *

(v) Landings of the species and/or management group meet the requirements specified in § 635.28(b)(2) through (5) and NMFS has closed the fishery by publication in the Federal Register.

* * * * *

(2) If the overall, regional, and/or sub-regional quota is available, then that overall, regional, and/or sub-regional commercial fishery for the shark species or management group will open as specified in § 635.27(b). When NMFS calculates that the overall, regional, and/or sub-regional landings for a shark species and/or management group, as specified in § 635.27(b)(1), has reached or is projected to reach 80 percent of the applicable available overall, regional, and/or sub-regional quota as specified in § 635.27(b)(1) and is projected to reach 100 percent of the relevant quota by the end of the fishing season, NMFS will file for publication with the Office of the Federal Register a closure action, as applicable, for that shark species and/or shark management group that will be effective no fewer than 4 days from date of filing. From the effective date and time of the closure until the start of the following fishing year or until NMFS announces, via publication in the Federal Register, that additional overall, regional, and/or sub-regional quota is available and the season is reopened, the overall, regional, and/or sub-regional fisheries for that shark species or management group are closed.

* * * * *

(4) When the overall, regional, and/or sub-regional fishery for a shark species and/or management group is closed, owners and operators of a fishing vessel issued a Federal Atlantic commercial shark permit pursuant to § 635.4 may not possess, retain, land, or sell a shark of that species and/or management group that was caught within the closed region or sub-region, except under the conditions specified in § 635.22(a) and (c) or if the vessel possesses a valid shark research permit under § 635.32, a NMFS-approved observer is onboard, and the sandbar and/or Research LCS fishery, as applicable, is open. A shark dealer, issued a permit pursuant to § 635.4, may not purchase or receive a shark of that species and/or management group that was caught within the closed region or sub-region from a vessel issued a Federal Atlantic commercial shark permit, except that a permitted shark dealer or processor may possess sharks that were caught in the closed region or sub-region that were harvested, off-loaded, and sold, traded, or bartered, prior to the effective date of the closure and were held in storage. Under a closure for a shark species or management group, a shark dealer, issued a permit pursuant to § 635.4 may, in accordance with State regulations, purchase or receive a shark of that species or management group if the shark was harvested, off-loaded, and sold, traded, or bartered from a vessel that fishes only in State waters and that has not been issued a Federal Atlantic commercial shark permit, HMS Angling permit, or HMS Charter/Headboat permit pursuant to § 635.4. Additionally, under an overall, a regional, or a sub-regional closure for a shark species and/or management group, a shark dealer, issued a permit pursuant to § 635.4, may purchase or receive a shark of that species group if the sandbar or Research LCS fishery, as applicable, is open and the shark was harvested, off-loaded, and sold, traded, or bartered from a vessel that has been issued a valid shark research permit (pursuant to § 635.32(f)) that had a NMFS-approved observer on board during the trip on which the shark was collected.

* * * * *

9. In § 635.31, revise paragraph (c)(6) to read as follows:

§ 635.31 Restrictions on sale and purchase.

* * * * *

(c) * * *

(6) A dealer issued a permit under this part may not first receive silky sharks or scalloped, smooth, or great hammerhead sharks from an owner or operator of a fishing vessel with pelagic longline gear on board, or from the owner of a fishing vessel issued both a HMS Charter/Headboat permit with a commercial sale endorsement and a commercial shark permit when tuna, swordfish or billfish are on board the vessel, offloaded from the vessel, or being offloaded from the vessel.

* * * * *

10. In § 635.71, revise paragraph (d)(19) to read as follows:

§ 635.71 Prohibitions.

* * * * *

(d) * * *

(19) Retain, possess, transship, land, store, sell or purchase silky sharks or scalloped, smooth, or great hammerhead sharks as specified in § 635.21(c)(1)(ii), § 635.22(a)(2), § 635.24, and § 635.31(c)(6).

* * * * *

11. In table 1 of appendix A to part 635, revise the term “Thresher shark, Alopias vulpinus” under the heading C to read as follows:

Appendix A to Part 635—Species Tables

Table 1 of Appendix A to Part 635—Oceanic Sharks

* * * * *

C. Pelagic Sharks

* * * * *

Common thresher shark, Alopias vulpinus

* * * * *

12. In table 2 of appendix A to part 635, revise the term “Thresher shark, Alopias vulpinus ” to read as follows:

Appendix A to Part 635—Species Tables

Table 2 of Appendix A to Part 635—Pelagic Species

* * * * *

Common thresher shark, Alopias vulpinus

* * * * *

[FR Doc. 2025-24264 Filed 1-2-26; 8:45 am]

BILLING CODE 3510-22-P